NUCLEAR REGULATORY COMMISSION

Advisory Committee on Nuclear Waste Revised

The agenda for the 118th meeting of the Advisory Committee on Nuclear Waste (ACNW) scheduled to be held on March 27-29, 2000, in Room T-2B3, 11545 Rockville Pike, Rockville, Maryland, has been revised to include a discussion on: Uranium Plume Attenuation—Representatives from the NRC Office of Research will present results from a historical case analysis of the transport of uranium. Mechanisms controlling retardation of radionuclides by common soil minerals will be presented. The discussion of the DOE-NRC technical exchange on the resolution of key technical issues (on March 28) has been canceled.

All other items pertaining to this meeting remain the same as published in the Federal Register on Thursday, March 9, 2000 (65 FR 12595).

For further information contact: Mr. Richard K. Major, Special Assistant, ACNW (Telephone 301/415-7366), between 8 a.m. and 5 p.m. EST.

Dated: March 13, 2000.
Andrew L. Bates,
Advisory Committee Management Officer.

[FR Doc. 00-6635 Filed 3-16-00; 8:45 am]

BILLING CODE 7590-01-U